Proclamation 7395 of January 17, 2001

Establishment of the Minidoka Internment National Monument

By the President of the United States of America

A Proclamation

The Minidoka Internment National Monument is a unique and irreplaceable historical resource which protects historic structures and objects that provide opportunities for public education and interpretation of an important chapter in American history—the internment of Japanese Americans during World War II.

On February 19, 1942, President Franklin D. Roosevelt signed Executive Order 9066, authorizing the Secretary of War and military commanders to designate military areas from which “any or all persons may be excluded” and to “provide for residents of any such area who are excluded therefrom, such transportation, food, shelter, and other accommodations as may be necessary.”

Starting in early 1942, military authorities began designating military exclusion areas in the States of California, Washington, Oregon, and Arizona, and the territory of Alaska. Following the signing of Executive Order 9066, American citizens and resident aliens of Japanese ancestry living in the designated exclusion areas were ordered to evacuate their homes and businesses and report to temporary assembly centers located at fairgrounds, horse racetracks, and other make-shift facilities.

To provide more permanent accommodations for the evacuees, President Roosevelt established the War Relocation Authority (WRA) in March 1942. The WRA oversaw the construction of ten relocation centers on Federally owned lands in remote areas of six western States and Arkansas, including the Minidoka Relocation Center in Idaho. Alaskan Native residents of the Aleutian and Pribiloff Islands and members of other ethnic and religious groups were also relocated or interned during the course of the war.

Established in August 1942, the Minidoka Relocation Center, also known as the Hunt Site, was located on Federal lands in Jerome County, in south central Idaho. During its operation from August 1942 to October 1945, the population reached a peak of 9,397 Japanese Americans from Washington State, Oregon, and Alaska. The Center included over 33,000 acres of land with administrative and residential facilities located on approximately 950 acres. The Center had more than 600 buildings including administrative, religious, residential, educational, mess, medical, manufacturing, warehouse, security, and other structures.

Living conditions at Minidoka and the other centers were harsh. Internees were housed in crude barracks and cramped quarters, and they shared communal facilities. Internees engaged in irrigated agriculture, livestock production, and light manufacturing to produce food and garments for the camp. Approximately 1,000 internees from Minidoka served in the U.S. military. Fifty-four Japanese American servicemen from Minidoka were killed in action.

Section 2 of the Act of June 8, 1906 (34 Stat. 225, 16 U.S.C. 431), authorizes the President, in his discretion, to declare by public proclamation historic landmarks, historic and prehistoric structures, and other objects of historic or scientific interest that are situated upon lands owned or controlled by the Government of the United States to be national monuments, and to reserve as a part thereof parcels of lands, the limits of which in all cases shall be confined to the smallest area compatible with the proper care and management of the objects to be protected.

WHEREAS it appears that it would be in the public interest to reserve such lands as a national monument to be known as the Minidoka Internment National Monument:

NOW, THEREFORE, I, WILLIAM J. CLINTON, President of the United States of America, by the authority vested in me by section 2 of the Act of June 8, 1906 (34 Stat. 225, U.S.C. 431), do proclaim that there are hereby set apart and reserved as the Minidoka Internment National Monument for the purpose of protecting the historic structures and objects of historic interest contained therein, all lands and interests in lands owned or controlled by the United States within the boundaries of the area described on the map entitled “Minidoka Internment National Monument” attached to and forming a part of this proclamation. The Federal lands and interests in land reserved consist of approximately 72.75 acres, which is the smallest area compatible with the proper care and management of the structures and objects to be protected.

All Federal lands and interests in lands within the boundaries of this monument are hereby appropriated and withdrawn from all forms of entry, location, selection, sale, or leasing or other disposition under the public land or other Federal laws, including but not limited to withdrawal from location, entry, and patent under the mining laws, and from disposition under all laws relating to mineral and geothermal leasing.

The Secretary of the Interior, pursuant to legal authorities, shall manage the monument and shall transfer administration of the monument to the National Park Service to implement the purposes of this proclamation.

To carry out the purposes of this proclamation and to interpret the relocation and internment of Japanese Americans during World War II, the Secretary of the Interior, through the National Park Service, shall prepare a management plan for the monument within 3 years of this date.

This proclamation does not reserve water as a matter of Federal law nor relinquish any water rights held by the Federal Government existing on this date. The Secretary shall work with appropriate State authorities to ensure that any water resources needed for monument purposes are available.

The establishment of this monument is subject to valid existing rights, provided that nothing in this proclamation shall interfere with the operation and maintenance of the Northside Canal to the extent that any such activities, that are not valid existing rights, are consistent with the purposes of the proclamation.

Nothing in this proclamation shall be deemed to enlarge or diminish the rights of any Indian tribe.

Nothing in this proclamation shall be deemed to revoke any existing withdrawal, reservation, or appropriation; however the national monument shall be the dominant reservation.

Warning is hereby given to all unauthorized persons not to appropriate, injure, destroy, or remove any feature of this monument and not to locate or settle upon any of the lands thereof.

IN WITNESS WHEREOF, I have hereunto set my hand this seventeenth day of January, in the year of our Lord two thousand one, and of the Independence of the United States of America the two hundred and twenty-fifth.

Billing code 3195-01-P

[FR Doc. 01-2100

Filed 1-19-01; 8:45 am]

Billing code 3195-01-C